DEPARTMENT OF ENERGY

Federal Energy Regulatory Commission

[Docket No. CP00-445-000]

National Fuel Gas Supply Corporation; Notice of Application

August 29, 2000.

Take notice that on August 23, 2000, National Fuel Gas Supply Corporation (National Fuel), 10 Lafayette Square, Buffalo, New York 142032, filed in Docket No. CP00-445-000 an application pursuant to section 7(c) of the Natural Gas Act for permission to increase the maximum operating pressure of a compressor and a segment of downstream pipeline in Venango County, Pennsylvania, all as more fully set forth in the application on file with the Commission and open to public inspection. This filing may be viewed on the web at http://www.ferc.fed.us/online/htm (call 202-208-2222 for assistance).

National Fuel proposes to increase the maximum operating pressure of its Henderson Compressor Station from 720 psig to 800 psig and increase the maximum operating pressure of the 4.5-mile segment of Line M located immediately downstream of the station from 720 psig to 1,000 psig to permit it to provide an additional firm transportation service of up to 6,608 dt per day for Columbia Gas Transmission Corporation from Ellwood City, Pennsylvania to Lewis Run, Pennsylvania. It is stated that the pressure increase at Henderson Station will require minor modifications of auxiliary facilities under section 2.55(a) of the Commission's Regulations consisting of replacement of the existing meter tubes with new meter tubes rated for the higher operating pressure. National Fuel further indicates that all work at Henderson Station will be aboveground and that no change will be made to the installed horsepower, nor will there be an increase in the emissions or noise generated by the station. National Fuel also states that the uprating of Line M will be conducted in accordance with applicable regulations of the U.S. Department of Transportation.

Any questions regarding the application should be directed to David W. Reitz, at (716) 857-7949.

Any person desiring to be heard or to make any protest with reference to said application should on or before September 8, 2000, file with the Federal Energy Regulatory Commission, 888 First Street, NE., Washington, DC 20426, a motion to intervene or a protest in accordance with the requirements of the Commission's Rules of Practice and Procedure (18 CFR 385.214 or 385.211) and the Regulations under the Natural Gas Act (18 CFR 157.10). All protests filed with the Commission will be considered by it in determining appropriate action to be taken but will not serve to make the protestants parties to the proceeding. Any person wishing to become a party to a proceeding or to participate as a party in any hearing therein must file a motion to intervene in accordance with the Commission's Rules.

Take further notice that, pursuant to the authority contained in and subject to the jurisdiction conferred upon the Federal Energy Regulatory Commission by sections 7 and 15 of the Natural Gas Act and the Commission's Rules of Practice and Procedure, a hearing will be held without further notice before the Commission or its designee on this application if no motion to intervene is filed within the time required herein, if the Commission on its own review of the matter finds that a grant of the certificate is required by the public convenience and necessity. If a motion for leave to intervene is timely filed, or if the Commission on its own motion believes that a formal hearing is required, further notice of such hearing will be duly given.

Under the procedure herein provided for, unless otherwise advised, it will be unnecessary for National Fuel to appear or be represented at the hearing.

Linwood A. Watson, Jr.,
Acting Secretary.

[FR Doc. 00-22583 Filed 9-1-00; 8:45 am]

BILLING CODE 6717-01-M